GENERAL SERVICES ADMINISTRATION

[Notice-CIB-2013-03; Docket No. 2013-0002; Sequence 11]

Privacy Act of 1974; Notice of cancellation of System of Record Notice (SORN)

AGENCY: General Services Administration (GSA).

ACTION: Withdrawal of GSA/GOV-8 Excluded Parties List System (EPLS) System of Record Notice (SORN).

SUMMARY: Pursuant to the Privacy Act of 1974 (5 U.S.C. 552a), notice is given that the General Services Administration (GSA), is canceling the following system of record notice: GSA/GOV-8 Excluded Parties List System (EPLS).

DATES: Effective Date: April 17, 2013.

FOR FURTHER INFORMATION CONTACT: Call or email the GSA Privacy Act Officer: telephone 202-208-1317; email gsa.privaccyact@gsa.gov.

ADDRESSES: GSA Privacy Act Officer (CIB), General Services Administration, 1800 F Street NW., Washington, DC 20405.

SUPPLEMENTARY INFORMATION:

The GSA/GOV-8 Excluded Parties List System (EPLS) is being cancelled because the information in the system is now part of the (GSA/GOVT-9) System of Award Management (SAM). The (SORN) was published in the Federal Register at 73 FR 22374 on Friday, April 25, 2008.

Dated: April 11, 2013.
James Atwater,
Acting Director, Office of Information Management.

[FR Doc. 2013-09004 Filed 4-16-13; 8:45 am]

BILLING CODE 6820-34-P